DEPARTMENT OF HEALTH AND HUMAN SERVICES

Administration for Community Living

Agency Information Collection Activities; Proposed Collection; Comment Request; Evidence-Based Falls Prevention Program Standardized Data Collection

AGENCY: Administration for Community Living (ACL), HHS.

ACTION: Notice.

SUMMARY: The Administration for Community Living (ACL), Administration on Aging (AoA) is announcing an opportunity for public comment on the proposed collection of certain information. Under the Paperwork Reduction Act of 1995 (the PRA), Federal agencies are required to publish notice in the Federal Register concerning each proposed collection of information, including each proposed extension of an existing collection of information, and to allow 60 days for public comment in response to the notice. This notice solicits comments on the information collection requirements relating to the Chronic Disease Self-Management Education Program.

DATES: Submit written or electronic comments on the collection of information.

ADDRESSES: Submit electronic comments on the collection of information to: kristie.kulinski@acl.hhs.gov. Submit written comments on the collection of information to Kristie Kulinski, U.S. Administration for Community Living, Administration on Aging, 330 C Street SW., Washington, DC 20230.

FOR FURTHER INFORMATION CONTACT: Kristie Kulinski (kristie.kulinski@acl.hhs.gov).

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology. The “Empowering Older Adults and Adults with Disabilities through Chronic Disease Self-Management Education (CDSME) Programs” cooperative agreement program has been financed through Prevention and Public Health Funds (PPHF), most recently by FY2015 PPHF funds. The statutory authority for cooperative agreements under the current program announcement is contained in the Public Health Service Act, 42 U.S.C. 300u-2 (Community Programs) and 300u-3 (Information Programs); and Consolidated and Further Continuing Appropriations Act, 2015, Pub. L. 113-235, Div. G., Title II, 219(a); and the Patient Protection and Affordable Care Act, 42 U.S.C. 300u-11 (Prevention and Public Health Fund).

OMB approval of the existing set of CDSME data collection tools (OMB Control Number, 0985-0036) expires on 07/31/2016. This data collection continues to be necessary for monitoring program operations and outcomes. ACL proposes to use revised versions of the following tools: (1) Semi-annual progress reports to monitor grantee progress; (2) an Organization Data form to record location of sites where programs are held which will allow mapping of the delivery infrastructure; and (3) a set of tools used to collect information at each program completed by the program leaders/delivery personnel (Program Information Cover Sheet and Attendance Log) and a Participant Information Survey completed by each participant to document their demographic and health characteristics. ACL is not requesting renewal of one other data collection tool, the Annual Integrated Services Delivery System Assessment Tool. ACL proposes to gather data using an existing online data entry system for the program and participant survey data. The current proposed Data Collection Tools can be found at ACL's Web site at: http://www.aoa.acl.gov/AoA_Programs/Tools_Resources/collection_tools.aspx. ACL estimates the burden of this collection of information as 128 hours for grantee staff, 220 hours for local agency staff and volunteers, and 92 hours for individuals—Total burden is 440 hours per year. This assumes a data collection sample of 386 workshops.

Dated: March 1, 2016.
Kathy Greenlee,
Administrator and Assistant Secretary for Aging.

[FR Doc. 2016-04924 Filed 3-4-16; 8:45 am]

BILLING CODE 4154 -01-P